DEPARTMENT OF COMMERCE

International Trade Administration

[A-423-811]

Notice of Final Determination of Sales at Less Than Fair Value: Certain Cold-Rolled Carbon Steel Flat Products From Belgium.

AGENCY: Import Administration, International Trade Administration, Department of Commerce.

EFFECTIVE DATE: October 3, 2002.

FOR FURTHER INFORMATION CONTACT: James Terpstra or Lyman Armstrong at (202) 482-3965 or (202) 482-3601, respectively; Enforcement Office VI, Group II, Import Administration, International Trade Administration, U.S. Department of Commerce, 14th Street and Constitution Avenue NW., Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to Department of Commerce (Department) regulations refer to the regulations codified at 19 CFR part 351 (2001).

Final Determination

We determine that certain cold-rolled carbon steel flat products (cold-rolled steel) from Belgium is being sold, or is likely to be sold, in the United States at less than fair value (LTFV), as provided in section 735 of the Act. The estimated margins of sales at LTFV are shown in the Continuation of Suspension of Liquidation section of this notice.

Case History

The preliminary determination in this investigation was issued on May 9, 2002. See Notice of Preliminary Determination of Sales at Less Than Fair Value and Postponement of Final Determination: Certain Cold-Rolled Carbon Steel Flat Products from Belgium, 67 FR 31195 (May 9, 2002). Since the publication of the preliminary determination, the following events have occurred.

On May 10, 2002, the Department issued supplemental Sections A, B, and C questionnaires to Sidmar, N.V. (Sidmar), the respondent in this review. The responses were received on May 14, 2002.

On May 13, 2002, Sidmar, the respondent in this review and petitioners ¹ submitted comments regarding ministerial errors in the Department's preliminary determination. However, because these errors were not “significant” within the meaning of the regulations, 19 CFR 351.224(g), we did not amend the preliminary determination. We have corrected these errors for purposes of our final dumping margin. For further discussion, see the Calculation Memorandum from Lyman Armstrong to the File for the Final Determination of Certain Cold-Rolled Carbon Steel Flat Products from Belgium, dated September 23, 2002 (Final Calculation Memorandum).

¹ The petitioners in this investigation are Bethlehem Steel Corporation, LTV Steel Company Inc., National Steel Corporation, Nucor Corporation, Steel Dynamics, Inc., United States Steel Corporation, WCI Steel, Inc., and Weirton Steel Corporation (collectively, the petitioners).

On May 20, 2002, petitioner Nucor Corporation, requested a hearing pursuant to 19 CFR 351.310(c). On May 29, 2002 and June 10, 2002, petitioners Bethlehem Steel Corporation, National Steel Corporation, and United States Steel Corporation, submitted letters, respectively, not requesting a hearing but wishing to participate in any hearing the Department held.

In May and June 2002, the Department verified the responses submitted by Sidmar and its affiliates J&F Steel Corporation (J&F) and TradeARBED Corporation (TANY). Verification reports were issued in July and August 2002. On August 19, 2002, we received case briefs from the petitioners and the respondent. On August 26, 2002, we received rebuttal briefs from the petitioners and the respondents.

On August 26, 2002, petitioner Nucor Corporation a submitted a letter withdrawing its request for a hearing. No hearing was held with respect to this investigation.

On September 5, 2002, we sent a letter to Sidmar requesting revised databases correcting the minor corrections presented at the beginning of the sales and cost verifications.

Scope of Investigation

For purposes of this investigation, the products covered are certain cold-rolled (cold-reduced) flat-rolled carbon-quality steel products. A full description of the scope of this investigation is contained in “Appendix I” attached to the Notice of Correction to Final Determination of Sales at Less Than Fair Value: Certain Cold-Rolled Carbon Steel Flat Products from Australia, 67 FR 52934 (August 14, 2002). For a complete discussion of the comments received on the Preliminary Scope Rulings, see the memorandum regarding “Issues and Decision Memorandum for the Final Scope Rulings in the Antidumping Duty Investigations on Certain Cold-Rolled Carbon Steel Flat Products from Argentina, Australia, Belgium, Brazil, France, Germany, India, Japan, Korea, the Netherlands, New Zealand, the People's Republic of China, the Russian Federation, South Africa, Spain, Sweden, Taiwan, Thailand, Turkey, and Venezuela, and in the Countervailing Duty Investigations of Certain Cold-Rolled Carbon Steel Flat Products from Argentina, Brazil, France, and Korea,” dated July 10, 2002, which is on file in the CRU.

Period of Investigation

The period of investigation (POI) is July 1, 2000, through June 30, 2001.

Verification

As provided in section 782(i) of the Act, we conducted verification of the cost and sales information submitted by the respondent. We used standard verification procedures including examination of relevant accounting and production records, and original source documents provided by the respondent.

Analysis of Comments Received

All issues raised in the case and rebuttal briefs by parties to this antidumping proceeding are listed in the appendix to this notice and addressed in the Issues and Decision Memorandum for the Antidumping Duty Investigation of Certain Cold-Rolled Carbon Steel Flat Products from Belgium (Decision Memorandum) from Holly A. Kuga, Acting Deputy Assistant Secretary for Import Administration, to Faryar Shirzad, Assistant Secretary for Import Administration, dated concurrently with this notice, which is hereby adopted by this notice. The Decision Memorandum is on file in room B-099 of the main Department of Commerce building. In addition, a complete version of the Decision Memorandum can be accessed directly on the World Wide Web at http://ia.ita.doc.gov/. The paper and electronic versions of the Decision Memorandum are identical in content.

Changes Since the Preliminary Determinations

Based on our findings at verification, and analysis of comments received, we have made the following adjustments to the preliminary determination in calculating the final dumping margin in this proceeding:

• For a small number of sales in the home and U.S. market Sidmar did not report a date of payment. In accordance with Departmental practice in such cases where payment has not yet been made, we have used the last day of the U.S. sales verification (i.e., June 28, 2002) as payment date in the calculation of imputed credit expenses.

• The Department corrected the margin program based on errors discovered at verification.

• For the final determination the Department has denied all early payment discounts in the home market because Sidmar has failed to demonstrate that it is entitled to such an adjustment.

• For billing adjustments in the U.S. market, the Department has applied partial adverse facts available by setting all positive billing adjustments to zero, and where a negative billing adjustment is misreported, the Department has taken each unique combination of J&F branch and invoice number for which a negative billing adjustment is reported and applied the largest per-unit negative billing adjustment for all records sharing the same branch/invoice number combination.

• The Department corrected clerical errors presented by interested parties in the margin and comparison market program.

These adjustments are discussed in the relevant sections of the Decision Memorandum and Final Calculation Memorandum for this investigation.

Facts Available

Section 776(a)(2) of the Act provides that “if an interested party or any other person—(A) Withholds information that has been requested by the administering authority; (B) fails to provide such information by the deadlines for the submission of the information or in the form and manner requested, subject to subsections (c)(1) and (e) of section 782; (C) significantly impedes a proceeding under this title; or (D) provides such information but the information cannot be verified as provided in section 782(i), the administering authority shall, subject to section 782(d), use the facts otherwise available in reaching the applicable determination under this title.” In addition, section 776(b) of the Act provides that, if the Department finds that an interested party “has failed to cooperate by not acting to the best of its ability to comply with a request for information,” the Department may use information that is adverse to the interests of the party as the facts otherwise available. The statute also provides that such an adverse inference may be based on secondary information, including information drawn from the petition. In this case, the Department has applied partial facts available for various expenses and adjustments. (See the Decision Memorandum at comments 9 and 10).

Continuation of Suspension of Liquidation

In accordance with section 735(c)(1)(B) of the Act, we are directing the Customs Service to continue to suspend liquidation of all entries of cold-rolled steel exported from Belgium that are entered, or withdrawn from warehouse, for consumption on or after May 9, 2002, the date of publication of our preliminary determination. The Customs Service shall continue to require a cash deposit or the posting of a bond based on the estimated weighted-average dumping margins shown below. The suspension of liquidation instructions will remain in effect until further notice.

We determine that the following weighted-average dumping margins exist for Belgium:

Manufacturer/exporter | Margin (percent)
Sidmar, N.V. | 11.56
All Others | 11.56

International Trade Commission Notification

In accordance with section 735(d) of the Act, we have notified the International Trade Commission (ITC) of our determinations. The ITC will determine, within 45 days, whether imports of subject merchandise from Belgium are causing material injury, or threaten material injury, to an industry in the United States. If the ITC determines that material injury or threat of injury does not exist, the proceedings will be terminated and all securities posted will be refunded or canceled. If the ITC determines that such injury does exist, the Department will issue antidumping orders directing Customs Service officials to assess antidumping duties on all imports of the subject merchandise entered, or withdrawn from warehouse for consumption on or after the effective date of the suspension of liquidation.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: September 23, 2002.
Faryar Shizad,
Assistant Secretary for Import Administration.

Appendix—Issues Covered in Decision Memorandum

Sales Issues

(1) Whether to Apply Partial Adverse Facts Available (AFA) to Sidmar's U.S. Sales of Products Further Processed by Laminoir de Dudelange S.A. (LDD) and Imported by J&F Steel Corporation (J&F)

(2) Constructed Export Price (CEP) Offset

(3) Whether the Department Should Make All Minor Corrections Presented On the First Day of Verification

(4) Whether to Correct Sidmar's Failure to Report Rebates for Certain U.S. Sales

(5) Whether to Apply Partial Adverse Facts Available for Sidmar's Failure to Report Certain Movement Expenses

(6) Whether the Department Should Calculate U.S. Credit Expense Using the Weighted Average of TradeARBED (TANY)'s Short-Term Interest Rates

(7) Whether Sidmar's Freight Components Arranged Through Transaf N.V. (Transaf) Were at Arm's Length

(8) Whether the Department Should Calculate TANY's Indirect Selling Expenses Using TANY's Corrected Indirect Selling Expense Ratio

(9) Whether to Apply Partial Adverse Facts Available (AFA) for Sidmar's Misreporting of its Billing Adjustments on its U.S. Sales

(10) Early Payment Discounts

(11) Alleged Clerical Errors in the Preliminary Determination

Cost Issues

(12) General & Administrative (G&A) Expense

(13) Foreign Exchange Gains and Losses

(14) Valuation of Certain Inputs in the Cost of Manufacture

(15) Affiliated Input Transactions

[FR Doc. 02-24798 Filed 10-2-02; 8:45 am]

BILLING CODE 3510-DS-P